DEPARTMENT OF AGRICULTURE

Commodity Credit Corporation

7 CFR Part 1450

RIN 0560-AI27

Biomass Crop Assistance Program

AGENCY: Commodity Credit Corporation and Farm Service Agency, USDA.

ACTION: Final rule; reopening of comment period.

SUMMARY: The Commodity Credit Corporation (CCC) and the Farm Service Agency (FSA) published a final rule on February 27, 2015, amending the Biomass Crop Assistance Program (BCAP) regulations to implement changes required by the Agricultural Act of 2014 (the 2014 Farm Bill). We are extending the comment period for the final rule to give the public more time to provide input and recommendations on the final rule.

DATES: The comment period for the final rule published February 27, 2015 (80 FR 10569), effective May 28, 2015, is reopened. We will consider comments that we receive by May 27, 2015.

ADDRESSES: We invite you to submit comments on the final rule. In your comment, please specify RIN 0560-AI27, February 27, 2015, and 80 FR 10569-10575. You may submit comments by any of the following methods:

• Federal eRulemaking Portal: Go to http://www.regulations.gov. Follow the online instructions for submitting comments; or

• Mail, Hand Delivery, or Courier: Kelly Novak, FSA CEPD, USDA, STOP 0513, 1400 Independence Ave. SW., Washington, DC, 20250-0512.

All written comments will be available for inspection online at www.regulations.gov and at the mail address above during business hours from 8 a.m. to 5 p.m., Monday through Friday, except holidays. A copy of this extension and the published final rule are available through the FSA home page at http://www.fsa.usda.gov/.

FOR FURTHER INFORMATION CONTACT: Kelly Novak, telephone (202) 720-4053. Persons with disabilities who require alternative means for communication should contact the USDA Target Center at (202) 720-2600 (voice).

SUPPLEMENTARY INFORMATION:

Background

On February 27, 2015, CCC and FSA published a final rule titled “Biomass Crop Assistance Program.” The final rule implements all the required 2014 Farm Bill changes to BCAP and seeks comment on FSA's implementation of BCAP, given the required changes and changes to funding.

BCAP is administered by FSA using Commodity Credit Corporation (CCC) funds. Section 9010 of the 2014 Farm Bill (Pub. L. 113-79) amends 7 U.S.C. 8111 and reauthorizes BCAP with certain changes. BCAP provides assistance to biomass producers and owners in two payment categories:

• Matching payments to eligible material owners for the delivery of eligible material to qualified Biomass Conversion Facilities (BCFs). Qualified BCFs use biomass feedstocks to produce heat, power, biobased products, research, or advanced biofuels. The 2014 Farm Bill adds research as an authorized use of material by BCFs.

• Establishment and annual payments to producers who enter into contracts with CCC to produce eligible biomass crops on contract acres within BCAP project areas.

The final rule requested comments on how BCAP should be implemented in future years. FSA is, in particular, requesting public comments on the following questions:

• What information could FSA reasonably collect that would provide assurance that the biomass conversion facility has sufficient equity to be in operation by the date on which project area eligible crops are ready for harvest?

• How could FSA best determine if expansion of a project area would advance the maturity of that project area?

• What credible risk tools and sources should FSA consider in determining whether proposed crops are potentially invasive?

• With a new cost share cap of 50 percent for establishment costs for perennial crops in project areas, what establishment practices should FSA consider as most important to support?

• With the new limits to the BCAP budget, what priorities should FSA consider in implementing the program?

FSA received several comments requesting an extension of the comment period. We have determined that providing an extension of the original comment period will give the public more time to provide input and to make recommendations on the final rule. With this extension, the public may submit comments through May 27, 2015. This extension of comment period does not change the effective date of the final rule, which is May 28, 2015, so as not to delay the implementation of the changes to BCAP required by the 2014 Farm Bill.

Signed on May 15, 2015.
Joy Harwood,
Acting Executive Vice President, Commodity Credit Corporation, and Administrator, Farm Service Agency.

[FR Doc. 2015-12220 Filed 5-19-15; 8:45 am]

BILLING CODE 3410-05-P